OFFICE OF PERSONNEL MANAGEMENT

5 CFR Part 310

RIN 3206-AK03

Employment of Relatives

AGENCY: Office of Personnel Management.

ACTION: Final regulation.

SUMMARY: The Office of Personnel Management (OPM) is issuing final regulations on a plain language rewrite of its regulations regarding the employment of relatives as part of a broader review of OPM's regulations. The purpose of the revision is to make the regulations more readable.

DATES: Effective Date: May 20, 2005.

FOR FURTHER INFORMATION CONTACT: Mr. Scott A. Wilander by telephone at (202) 606-0830; by TTY at (202) 418-3134; by fax at (202) 606-0390; or by e-mail at sxwiland@opm.gov.

SUPPLEMENTARY INFORMATION: OPM published for comment on September 22, 2003, (at 68 FR 55012) proposed regulations revising Part 310 to make it more readable. We also proposed to eliminate subpart A because it merely restates the provisions of 5 U.S.C. 3110 which outline the legal restrictions on the employment of relatives.

Comments on Part 310

We received comments from two agencies on this proposal. Both agencies questioned the use of a question-and-answer format for regulations under Title 5, and indicated that they preferred the existing demonstrative statements for titles throughout the Code of Federal Regulations (CFR). We agree with this view and have adopted the agencies' recommendations.

Both agencies also opposed dropping provisions of the regulations that repeat the law. They believed it was beneficial to include these provisions, if only to provide a one-stop-shopping service so that readers would not have to consult both the law and the regulations. We can appreciate this view and, as a result, in general we leave what we perceive to be critical parts of relevant law in regulation. We do not consider that to be necessary or appropriate in this instance, however, because OPM has no particular responsibility for administering this law.

One agency questioned whether the exception that permits the employment of relatives under certain circumstances “not to exceed 1 month,” means 30 or 31 days. The agency suggested changing this provision in the regulations to read 30 days. We have adopted this suggestion.

This agency also suggested dividing the proposed rule into two parts to address two important points: (1) Legal restrictions on the employment of relatives; and (2) Exceptions to the legal restrictions on the employment of relatives. We believe this is a good suggestion and have adopted it.

Finally, one agency suggested making clear in the first sentence of proposed section 310.101 that the restriction on the employment of relatives applies to public officials. We have done so.

E.O. 12866, Regulatory Review

This rule has been reviewed by the Office of Management and Budget in accordance with E.O. 12866.

Regulatory Flexibility Act

I certify that these regulations would not have a significant economic impact on a substantial number of small entities because it affects only Federal employees.

List of Subjects in 5 CFR Part 310

Government employees.

U.S. Office of Personnel Management.
Dan G. Blair,
Acting Director.

Accordingly, OPM is revising 5 CFR part 310 to read as follows:

PART 310—EMPLOYMENT OF RELATIVES

Sec.
310.101 Legal restrictions on public officials in the employment of relatives.
310.102 Exceptions to the legal restrictions on the employment of relatives.

Authority: 5 U.S.C. 3110.

§ 310.101 Legal restrictions on public officials in the employment of relatives.

Section 3110 of title 5, United States Code, sets forth the legal restrictions on the employment of relatives.

§ 310.102 Exceptions to the legal restrictions on the employment of relatives.

Subsection (d) of 5 U.S.C. 3110 authorizes the Office of Personnel Management to prescribe regulations authorizing the temporary employment of relatives, in certain conditions, notwithstanding the restrictions. This regulation sets forth exceptions to the restrictions. When necessary to meet urgent needs resulting from an emergency posing an immediate threat to life or property, or a national emergency as defined in § 230.402(a)(1) of this title, a public official may employ relatives to meet those needs without regard to the restrictions on the employment of relatives in 5 U.S.C. 3110. Such appointments are temporary and may not exceed 30 days, but the agency may extend such an appointment for one additional 30-day period if the emergency need still exists at the time of the extension.

[FR Doc. 05-7842 Filed 4-19-05; 8:45 am]

BILLING CODE 6325-38-P